DEPARTMENT OF HEALTH AND HUMAN SERVICES

Health Resources and Services Administration

Agency Information Collection Activities: Proposed Collection: Public Comment Request; Information Collection Request Title: The Maternal, Infant, and Early Childhood Home Visiting Program Statewide Needs Assessment Update

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than July 23, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: The Maternal, Infant, and Early Childhood Home Visiting Program Statewide Needs Assessment Update—OMB No. 0906-0038—Revision

Abstract: HRSA is requesting approval to collect amended statewide needs assessment updates from Maternal, Infant, and Early Childhood Home Visiting (MIECHV) Program awardees. The 2020 statewide needs assessment update approved under OMB control number 0906-0038 expired November 30, 2021, and is discontinued. The prior approval was discontinued as the requirement was for a one-time data collection in response to the 2018 reauthorizing statute. This request will reinstate this information collection with no changes. Eligible entities that are states, jurisdictions, and non-profit organizations submitted statewide needs assessment updates in response to the 2020 Needs Assessment Update Supplemental Information Request (SIR) (and a corresponding SIR for jurisdiction awardees). Eligible entities that wish to amend their previously submitted needs assessment updates will have the opportunity to do so prior to submitting their fiscal year 2025 base and matching grant funding application and in response to new instructions provided by the agency for this purpose.

The MIECHV Program, authorized by section 511 of the Social Security Act, 42 U.S.C. 711, and administered by HRSA in partnership with the Administration for Children and Families, supports voluntary, evidence-based home visiting services during pregnancy and to parents with young children up to kindergarten entry. States, jurisdictions, and tribal entities, and nonprofit organizations, in certain circumstances, are eligible to receive funding through MIECHV and have the flexibility, within the parameters of the authorizing statute, to tailor the program to serve the specific needs of their communities.

The statewide needs assessment is a critical and foundational resource that assists awardees in identifying and understanding how to meet the needs of eligible families living in at-risk communities in their states.

Need and Proposed Use of the Information: Congress, through enactment of the Social Security Act, Title V, Section 511 (42 U.S.C. 711), as amended, established the MIECHV Program. The MIECHV Program is designed to: (1) strengthen and improve the programs and activities carried out under Title V of the Social Security Act; (2) improve coordination of services for at risk communities; and (3) identify and provide comprehensive services to improve outcomes for families who reside in at risk communities. Section 511(b)(1) of the Social Security Act requires that states review and update their statewide needs assessments (which may be separate from, but in coordination with, the Title V statewide needs assessment) no later than October 1, 2020, as a condition of receiving payments from Title V Block Grant allotments. Since completing the needs assessment update, state and jurisdiction awardees may wish to amend their needs assessment update to identify communities where families with the most need are located in their state or jurisdiction.

In response to the 2020 Needs Assessment Update SIR, state and jurisdiction awardees were required to submit an updated statewide needs assessment that identified all the following information, as required by the MIECHV authorizing statute:

(1) Communities with concentrations of (a) premature birth, low-birth weight infants, and infant mortality, including infant death due to neglect, or other indicators of at-risk prenatal, maternal, newborn, or child health; (b) poverty; (c) crime; (d) domestic violence; (e) high rates of high-school drop-outs; (f) substance abuse; (g) unemployment; or (h) child maltreatment.

(2) The quality and capacity of existing programs or initiatives for early childhood home visitation in the state including: the number and types of individuals and families who are receiving services under such programs or initiatives; the gaps in early childhood home visitation in the state; and the extent to which such programs or initiatives are meeting the needs of eligible families.

(3) The state's capacity for providing substance abuse treatment and counseling services to individuals and families in need of such treatment or services.

The SIR provided guidance to states in updating their statewide needs assessments and submitting the required information to HRSA. States that elected not to apply or be awarded MIECHV funds were encouraged to work with nonprofit organizations that received awards to provide MIECHV services within the state and indicate whether they will submit their needs assessments directly or through the nonprofit organization awardee. HRSA and recipients providing MIECHV services within states used the information collected through the needs assessment update to reaffirm the provision of MIECHV home visiting services in at-risk communities. The information is also used to support program planning, improvement, and decision-making. States wishing to amend their needs assessment will be asked to provide new information and supporting data. HRSA will provide specific instructions to awardees who request to amend their needs assessment update in advance of their fiscal year 2025 funding application. HRSA is not proposing any changes to the previously approved Needs Assessment SIR.

Likely Respondents: MIECHV Program Awardees that are states, jurisdictions, and, where applicable, nonprofit organizations providing services within states.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below. Burden hours reflect that existing needs assessments will be amended rather than fully developed.

Total Estimated Annualized Burden Hours:

Form name | Number of respondents | Number of responses per respondent | Total responses | Average burden per response (in hours) | Total burden hours
Maternal, Infant, and Early Childhood Home Visiting Program Statewide Needs Assessment Update—Amended | 35 | 1 | 35 | 30 | 1,050
Total | 35 |  | 35 |  | 1,050

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2024-11489 Filed 5-23-24; 8:45 am]

BILLING CODE 4165-15-P